ENVIRONMENTAL PROTECTION AGENCY

40 CFR Part 52

[EPA-R10-OAR-2024-0430: FRL-12243-01-R10]

Air Plan Approval; Washington; Olympic Region Clean Air Agency, Recreational Fires

AGENCY: Environmental Protection Agency (EPA).

ACTION: Proposed rule.

SUMMARY: The Environmental Protection Agency (EPA) is proposing to approve a revision to the Washington State Implementation Plan (SIP) that was submitted by the Department of Ecology (Ecology) in coordination with the Olympic Region Clean Air Agency (ORCAA). In 2013, Ecology and ORCAA inadvertently submitted for incorporation into the SIP a ban on small, recreational fires in Thurston County. These fires are defined as having a maximum pile size of three feet in diameter by two feet high using seasoned firewood or charcoal, generally associated with backyard, summer campfires. Ecology and ORCAA provided a review of the historical record to demonstrate that the ban on recreational fires was not relied upon for attainment, maintenance, or reasonable further progress in the Thurston County area. Ecology and ORCAA also provided data to demonstrate that removing the ban on recreational fires would not interfere with maintenance of the national ambient air quality standards. Therefore, we are proposing to approve the request by Ecology and ORCAA to remove this provision from the SIP.

DATES: Comments must be received on or before November 25, 2024.

ADDRESSES: Submit your comments, identified by Docket ID No. EPA-R10-OAR-2024-0430 at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Jeff Hunt, EPA Region 10, 1200 Sixth Avenue—Suite 155, Seattle, WA 98101, at (206) 553-0256, or hunt.jeff@epa.gov.

SUPPLEMENTARY INFORMATION:

Table of Contents

I. Background for Proposed Action

A. Review of Attainment and Maintenance Plan Control Requirements

B. Review of Particulate Matter Monitoring Data

II. The EPA's Proposed Action

III. Incorporation by Reference

IV. Statutory and Executive Order Reviews

I. Background for Proposed Action

A. Review of Attainment and Maintenance Plan Control Requirements

On August 7, 1987, the EPA identified a portion of Thurston County as a “Group I” area of concern due to measured violations of the then-newly promulgated 24-hour national ambient air quality standard (NAAQS) for particulate matter with an aerodynamic diameter less than or equal to a nominal 10 micrometers, referred to as PM10 (52 FR 29383). The Thurston County PM10 area consists of the adjoining cities of Olympia, Lacey, and Tumwater, Washington. Geographically, the area is characterized by low rolling terrain with hills rising higher toward its southern and western boundaries. The surrounding hills trap pollutants during certain meteorological conditions occurring in the late fall and winter, called inversions, that create a shallow, stagnant layer of air near ground level. Studies at the time showed that woodsmoke from residential home heating contributed 80-95% of ambient PM10 concentrations on the high pollution days of concern. In response to this problem in Thurston County and other areas in the State, the Washington Legislature adopted a comprehensive, statewide residential wood heating control program in 1987. Ecology promulgated regulations to implement the program under Washington Administrative Code (WAC) 173-433 Solid Fuel Burning Device Standards, establishing a curtailment program regulating fireplace and woodstove usage on high PM10 concentration days, as well as other requirements related to residential wood heating. This set of regulations, and ORCAA's implementation and enforcement of the regulations, formed the control measures relied upon in the attainment plan submitted in February 1989.

On November 15, 1990, the Clean Air Act (CAA) Amendments under section 107(d)(4)(B), designated the Thurston County Group I area as nonattainment for PM10 by operation of law. To address the additional moderate area requirements imposed by the 1990 CAA Amendments, Ecology submitted a supplement to the attainment plan in November 1991. However, the 1991 supplement to the attainment plan did not alter the primary focus on residential wood heating. The EPA took final action to approve the entire plan on July 27, 1993 (58 FR 40056). Importantly, in our final action, we clarified that the open burning ban for the area, which includes the smaller subset of recreational fires, was not submitted for approval and was not relied upon to demonstrate attainment of the PM10 NAAQS.

The implementation of WAC 173-433 rapidly brought the area into attainment by 1991. As PM10 levels in the area steadily declined, the EPA redesignated the Thurston County nonattainment area to a maintenance area on October 4, 2000 (65 FR 59128). In addition to approving Ecology's redesignation request for the area, the EPA also approved a maintenance plan. The maintenance plan reaffirmed that the residential wood heating program was responsible for the permanent and enforceable reductions and would ensure continued compliance with the PM10 NAAQS for ten years, without any changes to the control measures already in place.

On July 1, 2013, Ecology and ORCAA submitted a limited maintenance plan to fulfill the second 10-year planning requirement of Clean Air Act section 175A(b) to ensure compliance through 2020. A limited maintenance plan is used when monitored PM10 concentrations are very low relative to the NAAQS, and the suite of control measures that brought the area into attainment remain in place. In this case, the EPA promulgated a new 24-hour NAAQS for particulate matter with an aerodynamic diameter less than or equal to a nominal 2.5 micrometers, referred to as PM2.5 (62 FR 38652, July 18, 1997). The EPA subsequently revised the 24-hour PM2.5 NAAQS to 35 micrograms per cubic meter (µg/m³), while leaving the 24-hour PM10 NAAQS unchanged at 150 µg/m³. Ecology and ORCAA submitted a demonstration as part of the 2013 limited maintenance plan to show that converting the existing residential wood heating program from a focus on PM10 to the new PM2.5 standard would continue to protect the PM10 NAAQS. The agencies provided an analysis of PM10 and PM2.5 data collected by collocated Federal reference monitors at the Thurston County monitoring site, finding that in the critical winter season, the majority of PM10 was PM2.5. The statistical relationship between the two PM parameters indicated that PM2.5 levels would need to exceed 139 µg/m³ before the PM10 NAAQS was exceeded. Therefore, the State determined that conversion of the residential wood heating program from a focus on the PM10 NAAQS to the PM2.5 NAAQS would increase the stringency and effectiveness of the program. In conjunction with this demonstration, Ecology and ORCAA submitted revised State and local regulations to reflect the update to the PM2.5 NAAQS and wood burning, generally. It was during this update that Ecology and ORCAA inadvertently submitted ORCAA regulation 6.2.7(c) banning recreational fires in the area, which was not a control measure contained or relied upon in the attainment or maintenance plans. On October 3, 2013, EPA approved ORCAA regulation 6.2.7(c) into the ORCAA portion of the Washington SIP as part of EPA's approval of the area's second 10-year PM10 limited maintenance plan (78 FR 61188).

B. Review of Particulate Matter Monitoring Data

In addition to providing a historical analysis that ORCAA regulation 6.2.7(c) was not relied upon as part of the 1989 and 1991 attainment plans or the 1999 maintenance plan, ORCAA provided an analysis of particulate matter monitoring data to show that removing the ban on recreational fires is highly unlikely to affect compliance with the PM10 or PM2.5 NAAQS in any meaningful way.¹ A graph of maximum summer and winter concentrations in Thurston County, calculated with the EPA's assistance and included in docket for this action, shows two important trends. The first trend is that, historically, winter concentrations are well above summer concentrations as the season of concern. As noted by ORCAA in the agency's demonstration, “if we consider the usual backyard social event with a BBQ and people getting together and perhaps in the evening sitting around a fire, those generally happen in the warmer months of the year which are opposite of the wood stove season use.”

¹ As part of the 2013 limited maintenance plan, the EPA approved use of PM2.5 monitoring data as a surrogate for PM10. Thurston County does not experience significant windblown dust events like some eastern Washington maintenance areas, therefore the statistical relationship between PM2.5 and PM10 can be relied upon with a high degree of confidence in the Thurston area.

Even if one does not accept that assumption, the second trend shows the diminishing PM10 concentrations in the winter season, both in terms of maximum and mean PM10 concentrations. The EPA attributes this to two factors. The first is the conversion of the residential wood heating program to the more stringent 24-hour PM2.5 NAAQS enshrined in the Ecology and ORCAA regulations and submitted as part of the 2013 limited maintenance plan, which led to the implementation of more stringent thresholds for when wood stove use is curtailed due to air quality conditions. The second factor is the Ecology grant program administered by ORCAA which replaced uncertified wood burning devices with certified devices and non-emitting devices such as heat pumps.

The EPA proposes to determine that this significant decline in particulate matter emissions over the years almost certainly offsets any potential emissions growth from allowing small, recreational fires. Both graphs provided by ORCAA shows declining PM10 concentrations, especially during the winter months when concentrations tend to be highest. The first graph representing “max” concentrations indicates that recent levels are consistently less than a third of the 150 µg/m³ PM10 NAAQS. Additionally, the second graph representing “average” conditions indicates that the mean concentrations for both summer and winter are approximately 10 µg/m³, less than a tenth of the 150 µg/m³ PM10 NAAQS. Given these extremely low concentrations, the EPA proposes to find that it is highly unlikely that potential emissions growth from removing the ban on recreational fires could imperil compliance with the NAAQS. Even if one were to take that worst case scenario, the EPA notes that ORCAA Rule 6.2.6 Curtailment remains in the approved SIP and bans any form of outdoor burning, including recreational fires, on high concentration days when a burn ban has been declared by ORCAA.

II. The EPA's Proposed Action

The EPA is proposing to approve ORCAA regulation 6.2.7, State effective March 6, 2023, and incorporate it by reference into the Washington SIP at 40 CFR 52.2470(c)—Table 6—Additional Regulations Approved for the Olympic Region Clean Air Agency (ORCAA) Jurisdiction. The effect of this action would be to repeal paragraph (c) of ORCAA regulation 6.2.7 which historically banned recreational fires within the city limits of Lacey, Olympia, and Tumwater, and unincorporated areas of Thurston County lying within or between the municipal boundaries of these cities. Based on the demonstration provided by Ecology and ORCAA, we propose to find that the revision will not interfere with attainment of the national ambient air quality standards or other applicable requirements of the Clean Air Act.

III. Incorporation by Reference

In this document, the EPA is proposing to include in a final rule regulatory text that includes the incorporation by reference. In accordance with requirements of 1 CFR 51.5, the EPA is proposing to incorporate by reference ORCAA regulation 6.2.7, State effective March 6, 2023, as described in section II of this preamble. The EPA has made, and will continue to make, these documents generally available through https://www.regulations.gov and at the EPA Region 10 Office (please contact the person identified in the FOR FURTHER INFORMATION CONTACT section of this preamble for more information).

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve State choices, provided that they meet the criteria of the Clean Air Act. Accordingly, this action merely approves State law as meeting Federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rulemaking does not have Tribal implications and will not impose substantial direct costs on Tribal governments or preempt Tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The Olympic Region Clean Air Agency did not evaluate environmental justice considerations as part of its SIP submittal; the CAA and applicable implementing regulations neither prohibit nor require such an evaluation. The EPA did not perform an EJ analysis and did not consider EJ in this action. Due to the nature of the action being taken here, this action is expected to have a neutral impact on the air quality of the affected area. Consideration of EJ is not required as part of this action, and there is no information in the record inconsistent with the stated goal of Executive Order 12898 of achieving environmental justice for communities with EJ concerns.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: October 18, 2024.
Casey Sixkiller,
Regional Administrator, Region 10.

[FR Doc. 2024-24714 Filed 10-23-24; 8:45 am]

BILLING CODE 6560-50-P